ENVIRONMENTAL PROTECTION AGENCY

[FRL-6894-2]

Agency Information Collection Activities; EPA ICR No. 1250.06; Submission to OMB; Additional Opportunity To Comment

AGENCY: Environmental Protection Agency (EPA).

ACTION: Notice.

SUMMARY: In compliance with the Paperwork Reduction Act (44 U.S.C. 3501 et seq.), this document announces that the Information Collection Request (ICR) entitled: Request for Contractor Access to TSCA Confidential Business Information (EPA ICR No. 1250.06; OMB Control No. 2070-0075), has been forwarded to the Office of Management and Budget (OMB) for review and approval pursuant to the OMB procedures in 5 CFR 1320.12. The ICR, which is abstracted below, describes the nature of the information collection and its estimated cost and burden. The Federal Register notice required under 5 CFR 1320.8(d), announcing the Agency's intent to seek the renewal of this ICR and providing a 60-day opportunity for public comment on the ICR and its renewal, was issued on July 19, 2000 (65 FR 44779). EPA did not receive any comments on the ICR or its renewal during the comment period.

DATES: Additional comments may be submitted on or before December 1, 2000.

ADDRESSES: Send comments, referencing EPA ICR No. 1250.06 and OMB Control No. 2070-0075, to the following addresses: (1) Sandy Farmer, U.S. Environmental Protection Agency, Collection Strategies Division (Mail Code: 2822), 1200 Pennsylvania Avenue, NW., Washington, DC 20460; and to: (2) Office of Information and Regulatory Affairs, Office of Management and Budget (OMB), Attention: Desk Officer for EPA, 725 17th Street, NW, Washington, DC 20503.

FOR FURTHER INFORMATION CONTACT: Sandy Farmer at EPA phone on 202-260-2740, by e-mail at: “farmer.sandy@epa.gov,” or by regular mail at the address indicated below. You may also access the ICR at http://www.epa.gov/icr/icr.htm. Please refer to EPA ICR No. 1250.06.

SUPPLEMENTARY INFORMATION: ICR Title: Request for Contractor Access to TSCA Confidential Business Information (EPA ICR No.: 1250.60; OMB Control No.: 2070-0075).

Review Requested: This is a request under 5 CFR 1320.12 to renew an existing ICR currently scheduled to expire on December 31, 2000. Under 5 CFR 1320.10(e)(2), the Agency may continue to conduct or sponsor the collection of information while the submission is pending review at OMB.

Abstract: Certain employees of companies working under contract to EPA require access to confidential business information (CBI) collected under the authority of the Toxic Substances Control Act (TSCA) in order to perform their official duties. The Office of Pollution Prevention and Toxics (OPPT), which is responsible for maintaining the security of TSCA CBI, requires that all individuals desiring access to TSCA CBI obtain and annually renew official clearance to TSCA CBI. As part of the process for obtaining TSCA CBI clearance, OPPT requires certain information about the contracting company and about each contractor employee requesting TSCA CBI clearance, primarily the name, Social Security Number and identification badge number of the employee, the type of TSCA CBI clearance requested, the justification for such clearance, and the signature of the employee to an agreement with respect to access to and use of TSCA CBI.

Responses to the collection of information are voluntary, but failure to provide the requested information will prevent a contractor employee from obtaining clearance to TSCA CBI. EPA will observe strict confidentiality precautions with respect to the information collected on individual employees, based on the Privacy Act of 1974, as outlined in the ICR and in the collection instrument.

Burden Statement: The annual public reporting burden for this collection of information is estimated to average 1.56 hours per response for an estimated 432 respondents making one or more submissions of information annually. According to the PRA, “burden” means the total time, effort, or financial resources expended by persons to generate, maintain, retain, or disclose or provide information to or for a Federal agency. For this collection it includes the time needed to review instructions; develop, acquire, install and utilize technology and systems for the purposes of collecting, validating and verifying information, processing and maintaining information, and disclosing and providing information; adjust the existing ways to comply with any previously applicable instructions and requirements; train personnel to be able to respond to a collection of information; search data sources; complete and review the collection of information; and transmit or otherwise disclose the information.

An Agency may not conduct or sponsor, and a person is not required to respond to a collection of information that is subject to approval under the Paperwork Reduction Act, unless it displays a currently valid OMB control number. The OMB control numbers for EPA's information collections appear as part of the collection instruments (i.e., form or instructions), in the Federal Register notices for related rulemaking and ICR notices, and, if the collection is contained in a regulation, in a table of OMB approval numbers in 40 CFR part 9.

The ICR provides a detailed explanation of the burden and cost estimates for this ICR, which are only briefly summarized here:

Respondents/Affected Entities: Entities potentially affected by this action are companies working under contract to the Federal government whose employees need access to TSCA CBI, and employees of such companies.

Estimated No. of Potential Respondents: 432.

Estimated Number of Responses per Respondent: One, per occasion.

Frequency of Collection: On occasion.

Estimated Total Annual Burden: 675 hours.

Estimated Total Annual Non-labor Costs: $0.

Changes in the ICR Since the Last Approval: There is a decrease of 139 hours (from 814 hours to 675 hours) in the total estimated respondent burden from that currently in the OMB inventory. This decrease reflects a lower estimate of the number of employees at contracting firms that need to obtain clearance to access TSCA CBI.

According to the procedures prescribed in 5 CFR 1320.12, EPA has submitted this ICR to OMB for review and approval. Any comments related to the renewal of this ICR should be submitted within 30 days of this notice, as described above.

Dated: October 23, 2000.
Oscar Morales,
Director, Collection Strategies Division.

[FR Doc. 00-28011 Filed 10-31-00; 8:45 am]

BILLING CODE 6560-50-P